DEPARTMENT OF TRANSPORTATION

49 CFR Parts 23 and 26

[Docket No. DOT-OST-2022-0051]

RIN 2105-AE98

Disadvantaged Business Enterprise and Airport Concession Disadvantaged Business Enterprise Program Implementation Modifications

AGENCY: Office of the Secretary (OST), U.S. Department of Transportation (DOT).

ACTION: Notice of proposed rulemaking; extension of comment period.

SUMMARY: The U.S. Department of Transportation is extending the comment period for its Disadvantaged Business Enterprise (DBE) and Airport Concession DBE (ACDBE) notice of proposed rulemaking. The original comment period was scheduled to close on September 19, 2022. The extension is granted in response to requests received from stakeholders, who have stated the September 19 closing date does not provide sufficient time for them to prepare and submit of comments to the docket. The Department agrees to extend the comment period by 60 days. Therefore, the closing date for submission of comments is extended to October 31, 2022, which will provide those entities interested in commenting on the proposed rulemaking additional time to submit comments to the docket.

DATES: The comment period for the proposed rule published July 21, 2022, at 87 FR 43620 is extended. Comments must be received on or before October 31, 2022.

ADDRESSES: To ensure that you do not duplicate your docket submissions, please submit them by only one of the following means:

• Federal eRulemaking Portal: Go to https://www.regulations.gov/docket/DOT-OST-2022-0051/document and follow the online instructions for submitting comments.

• Mail: Docket Management Facility, U.S. Department of Transportation, 1200 New Jersey Ave. SE, West Building Ground Floor Room W12-140, Washington, DC 20590-0001.

• Hand Delivery: West Building Ground Floor, Room W-12-140, 1200 New Jersey Ave. SE, between 9 a.m. and 5 p.m., Monday through Friday, except Federal holidays. The telephone number is 202-366-9329.

Instructions: To ensure proper docketing of your comment, please include the agency name and docket number DOT-OST-2022-0051 or the Regulatory Identification Number (RIN), 2105-AE98 for the rulemaking at the beginning of your comments. All comments received will be posted without change to https://www.regulations.gov, including any personal information provided.

FOR FURTHER INFORMATION CONTACT: Marc D. Pentino, Departmental Office of Civil Rights, Office of the Secretary, 1200 New Jersey Avenue SE, Washington, DC 20590; telephone number 202-366-6968; marc.pentino@dot.gov.

SUPPLEMENTARY INFORMATION:

Background

On July 21, 2022, at 87 FR 43620, DOT published in the Federal Register a notice of proposed rulemaking proposing to amend its Disadvantaged Business Enterprise and Airport Concession Disadvantaged Business Enterprise regulations at 49 CFR part 26 and part 23. The proposal includes other provisions to update and strengthen the Department's regulation, and to modernize the program's eligibility and procedural requirements. In addition, the rulemaking proposed technical corrections that have led to substantive misinterpretations of the rules by recipients, program applicants and participants.

The original comment period for the proposal would have closed September 19, 2022. However, DOT stakeholders have expressed concern that this closing date does not provide sufficient time to coordinate with their respective members and working groups to develop comments to the NPRM and/or to submit comments to the docket, particularly on provisions they view are of a complex nature and impact operations.

The Department has carefully considered the requests to extend the comment period on the NPRM and agrees that given the length and breadth of topics covered, a period beyond the 60-day comment period is warranted. The Department finds that there is a strong interest in timely issuance of this priority rulemaking but is interested in providing the public with additional time to comment.

To allow time for interested parties to submit comments, the closing date is changed from September 19, 2022, to October 31, 2022. All members of the public, including DOT recipients and sponsors, prime contractors, small businesses, trade organizations, and consultants are invited to submit comments.

Signed in Washington, DC, on or around August 26, 2022 under authority delegated in 49 CFR 1.27(a):
John Putnam,
General Counsel.

[FR Doc. 2022-18850 Filed 8-31-22; 8:45 am]

BILLING CODE 4910-9X-P